DEPARTMENT OF ENERGY

Federal Energy Regulatory Commission

Notice of Filing

| Docket Nos.
Louisiana Public Service Commission v. Entergy Corporation | EL10-65-009
Entergy Services, Inc | ER14-2085-005
Entergy Louisiana, LLC | ER11-3658-005
Entergy Arkansas, Inc | ER12-1920-005
Entergy Mississippi, Inc | ER13-1595-005
Entergy New Orleans, Inc | ER10-1350-008
Entergy Gulf States of Louisiana, L.L.C | ER15-1826-001
Entergy Texas, Inc | ER16-1806-001
Entergy Services, Inc | (Consolidated)

On December 21, 2020, Entergy Services, LLC,¹ acting as agent for Entergy Operating Companies ² filed a compliance filing consisting of the bandwidth formula rate recalculations with true-up payments and receipts based on 2009 test year data and supporting workpapers for the identified adjustment, pursuant to the Federal Energy Regulatory Commission's (Commission) Order issued dated November 19, 2020.³

¹ Effective September 30, 2018, Entergy Services, Inc., changed its name to Entergy Services, LLC.

² The Entergy Operating Companies (Operating Companies) are currently Entergy Arkansas, LLC (formerly Entergy Arkansas, Inc.), Entergy Louisiana, LLC, Entergy Mississippi, LLC (formerly Entergy Mississippi, Inc.), Entergy New Orleans, LLC (formerly Entergy New Orleans, Inc.), and Entergy Texas, Inc.

³ La. Pub. Serv. Comm'n v. Entergy Corp., et al., 173 FERC 61,152 (2020).

Any person desiring to intervene or to protest this filing must file in accordance with Rules 211 and 214 of the Commission's Rules of Practice and Procedure (18 CFR 385.211, 385.214). Protests will be considered by the Commission in determining the appropriate action to be taken but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the eFiling link at http://www.ferc.gov. Persons unable to file electronically should submit an original and 5 copies of the protest or intervention to the Federal Energy Regulatory Commission, 888 First Street NE, Washington, DC 20426.

In addition to publishing the full text of this document in the Federal Register, The Commission provides all interested persons an opportunity to view and/or print the contents of this document via the internet through the Commission's Home Page (http://www.ferc.gov) using the eLibrary link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

Comment Date: 5:00 p.m. Eastern Time on January 11, 2021.

December 29, 2020.
Nathaniel J. Davis, Sr.,
Deputy Secretary.

[FR Doc. 2020-29165 Filed 1-4-21; 8:45 am]

BILLING CODE 6717-01-P